DEPARTMENT OF ENERGY

Orders Granting Authority To Import and Export Natural Gas, To Import and Export Liquefied Natural Gas, To Export Compressed Natural Gas, and To Vacate Authority During October 2015

| FE Docket Nos.
PORTLAND GENERAL ELECTRIC COMPANY | 15-135-NG
CANADA IMPERIAL OIL LIMITED | 15-138-NG
CROWLEY PETROLEUM DISTRIBUTION, ALASKA LLC | 15-133-LNG
TIDAL ENERGY MARKETING, INC | 15-137-NG
PLANET ENERGY CORP | 15-136-NG
DTE ENERGY TRADING, INC | 15-145-NG
DIRECT ENERGY MARKETING LIMITED | 15-146-NG
GREENFIELD ENERGY CENTRE LP | 15-148-NG
MINNESOTA ENERGY RESOURCES CORPORATION | 15-147-NG
EXCELERATE LIQUEFACTION SOLUTIONS I, LLC | 12-61-LNG
| 12-146-LNG
EMERA CNG, LLC | 13-157-CNG
TRANSFUELS, LLC d/b/a BLU LNG | 15-121-LNG
GAS NATURAL CAXITLAN, S. DE. R.L. DE C.V | 15-150-NG
ENBRIDGE GAS DISTRIBUTION INC | 15-152-NG
MARITIMES NG SUPPLY LIMITED PARTNERSHIP | 15-153-NG
DIRECT ENERGY MARKETING, INC | 15-151-NG
ROCHESTER GAS AND ELECTRIC CORPORATION | 15-157-NG
VERMONT GAS SYSTEMS, INC | 15-154-NG
SARANAC POWER PARTNERS L.P | 11-155-NG
TENASKA MARKETING VENTURES | 15-156-NG
ENSERCO ENERGY LLC | 14-15-NG
CPD ALASKA LLC | 15-133-LNG

AGENCY: Office of Fossil Energy, Department of Energy (DOE).

ACTION: Notice of orders.

SUMMARY: The Office of Fossil Energy (FE) of the Department of Energy gives notice that during October 2015, it issued orders granting authority to import and export natural gas, to import and export liquefied natural gas (LNG), to export compressed natural gas (CNG), and to vacate authority. These orders are summarized in the attached appendix and may be found on the FE Web site at http://energy.gov/fe/downloads/listing-doefe-authorizationsorders-issued-2015. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on December 16, 2015.
John A. Anderson,
Director, Office of Regulation and International Engagement, Office of Oil and Natural Gas.

Appendix—DOE/FE Orders Granting Import/Export Authorizations
3718 | 15-135-NG | 10/05/15 | Portland General Electric Company | Order granting blanket authority to import/export natural gas from/to Canada.
3719 | 15-138-NG | 10/05/15 | Canada Imperial Oil | Order granting blanket authority to import/export natural gas from/to Canada.
3720 | 15-133-LNG | 10/05/15 | Crowley Petroleum Distribution, Alaska LLC | Order granting blanket authority to import LNG from Canada by truck and in ISO Containers on Liner Cargo vessels and Ocean-going vessels.
3721 | 15-137-NG | 10/05/15 | Tidal Energy Marketing, Inc | Order granting blanket authority to import/export natural gas from/to Canada.
3722 | 15-136-NG | 10/05/15 | Planet Energy Corp | Order granting blanket authority to import/export natural gas from/to Canada and vacating prior authority.
3723 | 15-145-NG | 10/08/15 | DTE Energy Trading, Inc | Order granting blanket authority to import/export natural gas from/to Canada.
3724 | 15-146-NG | 10/08/15 | Direct Energy Marketing Limited | Order granting blanket authority to import natural gas from Canada.
3725 | 15-148-NG | 10/08/15 | Greenfield Energy Centre LP | Order granting blanket authority to import/export natural gas from/to Canada.
3726 | 15-147-NG | 10/09/15 | Minnesota Energy Resources Corporation | Order granting blanket authority to import/export natural gas from/to Canada and vacating prior authority.
3128-A | 12-61-LNG 12-146-LNG | 10/13/15 | Excelerate Liquefaction Solutions I, LLC | Order vacating long-term, Multi-contract authority to export LNG to Free Trade Agreement Nations, and Notice of Withdrawal of Application Requesting long-term, Multi-contract authority to export LNG to Non-free Trade Agreement Nations.
3727 | 13-157-CNG | 10/19/15 | Emera CNG, LLC | Final Opinion and Order granting long-term, Multi-contract authority to export compressed natural gas by vessel from a Proposed CNG Compression and Loading Facility at the Port of Palm Beach, Florida to Non-Free Trade Agreement Nations.
3728 | 15-121-LNG | 10/14/15 | Transfuels, LLC d/b/a BLU LNG | Order granting blanket authority to export LNG by ISO Containers loaded on vessels to Free Trade Agreement Nations.
3729 | 15-150-NG | 10/26/15 | Gas Natural Caxitlan, S. de R.L. de C.V | Order granting blanket authority to export natural gas to Mexico.
3730 | 15-152-NG | 10/26/15 | Enbridge Gas Distribution Inc | Order granting blanket authority to import/export natural gas from/to Canada.
3731 | 15-153-NG | 10/26/15 | Maritimes NG Supply Limited Partnership | Order granting blanket authority to import natural gas from Canada.
3732 | 15-151-NG | 10/26/15 | Direct Energy Marketing, Inc | Order vacating blanket authority to import/export natural gas from/to Canada.
3733 | 15-157-NG | 10/26/15 | Rochester Gas and Electric Corporation | Order granting blanket authority to import natural gas from Canada.
3734 | 15-154-NG | 10/26/15 | Vermont Gas Systems, Inc | Order granting blanket authority to import natural gas from Canada.
3735 | 15-155-NG | 10/26/15 | Saranac Power Partners L.P | Order granting blanket authority to import natural gas from Canada.
3736 | 15-156-NG | 10/26/15 | Tenaska Marketing Ventures | Order granting blanket authority to import/export natural gas from/to Canada/Mexico.
3403-A | 14-15-NG | 10/26/15 | Enserco Energy LLC | Order vacating blanket authority to import/export natural gas from/to Canada and to export natural gas to Mexico.
3720-A | 15-133-LNG | 10/26/15 | CPD Alaska LLC | Order amending blanket authority to import LNG from Canada by truck, in ISO Containers on Liner Cargo vessels, and on Bulk Ocean-going vessels.

[FR Doc. 2015-32160 Filed 12-21-15; 8:45 am]

BILLING CODE 6450-01-P